DEPARTMENT OF TRANSPORTATION

Federal Aviation Administration

Notice of Intent To Rule on Request To Release Airport Property at the Brigham City Municipal Airport, Brigham City, Utah

AGENCY: Federal Aviation Administration (FAA), DOT.

ACTION: Notice of request to release airport property.

SUMMARY: The FAA proposes to rule and invite public comment on the release of land at the Brigham City Municipal Airport under the provisions of Section 125 of the Wendell H. Ford Aviation Investment Reform Act for the 21st Century (AIR 21).

DATES: Comments must be received on or before March 10, 2008.

ADDRESSES: Comments on this application may be mailed or delivered to the FAA at the following address: Mr. Craig A. Sparks, Manager, Federal Aviation Administration, Northwest Mountain Region, Airports Division, Denver Airports District Office, 26805 E. 68th Ave., Suite 224, Denver, Colorado 80249.

In addition, one copy of any comments submitted to the FAA must be mailed or delivered to Mr. Blake Fonnesbeck, Director of Public Works, Brigham City Municipal Airport, P.O. Box 1005, 20 North Main Street, Brigham City, Utah 84302.

FOR FURTHER INFORMATION CONTACT: Mr. Roman Piñon, Project Manager, Federal Aviation Administration, Northwest Mountain Region, Airports Division, Denver Airports District Office, 26805 E. 68th Ave., Suite 224, Denver, Colorado 80249.

The request to release property may be reviewed in person at this same location.

SUPPLEMENTARY INFORMATION: The FAA invites public comment on the request to release property at the Brigham City Municipal Airport under the provisions of the AIR 21.

On September 14, 2007, the FAA determined that the request to release property at the Brigham City Municipal Airport submitted by Brigham City, Utah met the procedural requirements of the Federal Aviation Regulations, Part 155. The FAA may approve the request, in whole or in part, no later than March 10, 2008.

The following is a brief overview of the request:

The Brigham City Municipal Airport requests the release of 1.26 acres of non-aeronautical airport property to Brigham City, Utah. The purpose of this release is to allow the City to exchange the subject land that no longer serves any aeronautical purpose at the airport. The exchange will provide new access to the airport.

Any person may inspect the request by appointment at the FAA office listed above under FOR FURTHER INFORMATION CONTACT.

In addition, any person may inspect the application, notice and other documents germane to the application in person at the Brigham City Municipal Airport, 20 North Main Street, Brigham City, Utah 84302.

Issued in Denver, Colorado on February 4, 2008.
Craig A. Sparks,
Manager, Denver Airports District Office.

[FR Doc. 08-720 Filed 2-19-08; 8:45 am]

BILLING CODE 4910-13-M